DEPARTMENT OF COMMERCE

National Oceanic and Atmospheric Administration

[RTID 0648-XB811]

Notice of Availability of the Deepwater Horizon Oil Spill Alabama Trustee Implementation Group Weeks Bay Land Acquisition (Lloyd Tract) Project: Supplemental Restoration Plan and Environmental Assessment and Finding of No Significant Impact

AGENCY: National Marine Fisheries Service (NMFS), National Oceanic and Atmospheric Administration (NOAA), Commerce.

ACTION: Notice of availability and Finding of No Significant Impact.

SUMMARY: In accordance with the Oil Pollution Act of 1990 (OPA), the National Environmental Policy Act (NEPA), and a Consent Decree with BP Exploration & Production Inc. (BP), the Deepwater Horizon (DWH) Federal and State natural resource trustee agencies for the Alabama Trustee Implementation Group (Alabama TIG) have prepared a “Final Weeks Bay Land Acquisition (Lloyd Tract) Project: Supplemental Restoration Plan and Environmental Assessment (Supplemental RP/EA) and Finding of No Significant Impact (FONSI)”. The Supplemental RP/EA describes the restoration project alternatives considered by the Alabama TIG to provide for additional restoration benefits for Wetlands, Coastal, and Nearshore Habitats (WCNH) in the Alabama Restoration Area by replacing the Harrod Tract acquisition and management project approved in the “Deepwater Horizon Oil Spill Alabama Trustee Implementation Group Final Restoration Plan II and Environmental Assessment: Restoration of Wetlands, Coastal, and Nearshore Habitats; Habitat Projects on Federally Managed Lands; Nutrient Reduction (Nonpoint Source); Sea Turtles; Marine Mammals; Birds; and Oysters (Alabama TIG RP II/EA)” with the acquisition and management of another property (Lloyd Tract) in the Weeks Bay watershed. The Alabama TIG evaluated its alternatives under criteria set forth in the OPA natural resource damage assessment (NRDA) regulations, and evaluated the environmental consequences of the restoration alternatives in accordance with NEPA. The purpose of this notice is to inform the public of the availability of the Final Supplemental RP/EA and FONSI.

ADDRESSES: Obtaining Documents: You may access the Supplemental RP/EA from the “News” section of the Alabama TIG website at: http://www.gulfspillrestoration.noaa.gov/restoration-areas/alabama. Alternatively, you may request a CD of the Final Supplemental RP/EA (see FOR FURTHER INFORMATION CONTACT below).

FOR FURTHER INFORMATION CONTACT:

NOAA—Stella Wilson, (850) 332-4169, estelle.wilson@noaa.gov.

State of Alabama—Amy Hunter, (251) 621-1216, Amy.Hunter@dcnr.alabama.gov.

SUPPLEMENTARY INFORMATION:

Introduction

On April 20, 2010, the mobile offshore drilling unit Deepwater Horizon, which was being used to drill a well for BP Exploration and Production, Inc. (BP), in the Macondo prospect (Mississippi Canyon 252-MC252), experienced a significant explosion, fire, and subsequent sinking in the Gulf of Mexico, resulting in an unprecedented volume of oil and other discharges from the rig and from the wellhead on the seabed. The DWH oil spill is the largest off shore oil spill in U.S. history, discharging millions of barrels of oil over a period of 87 days. In addition, well over one million gallons of dispersants were applied to the waters of the spill area in an attempt to disperse the spilled oil. An undetermined amount of natural gas was also released into the environment as a result of the spill.

The DWH Federal and State natural resource trustees (DWH Trustees) conducted the NRDA for the DWH oil spill under OPA (OPA; 33 U.S.C. 2701 et seq.). Pursuant to OPA, Federal and State agencies act as trustees on behalf of the public to assess natural resource injuries and losses and to determine the actions required to compensate the public for those injuries and losses. OPA further instructs the designated trustees to develop and implement a plan for the restoration, rehabilitation, replacement, or acquisition of the equivalent of the injured natural resources under their trusteeship, including the loss of use and services from those resources from the time of injury until the time of restoration to baseline (the resource quality and conditions that would exist if the spill had not occurred) is complete.

The DWH Trustees are:

• U.S. Department of the Interior, as represented by the National Park Service, U.S. Fish and Wildlife Service, and Bureau of Land Management;

• National Oceanic and Atmospheric Administration, on behalf of the U.S. Department of Commerce;

• U.S. Department of Agriculture;

• U.S. Environmental Protection Agency;

• State of Louisiana Coastal Protection and Restoration Authority, Oil Spill Coordinator's Office, Department of Environmental Quality, Department of Wildlife and Fisheries, and Department of Natural Resources;

• State of Mississippi Department of Environmental Quality;

• State of Alabama Department of Conservation and Natural Resources and Geological Survey of Alabama;

• State of Florida Department of Environmental Protection and Fish and Wildlife Conservation Commission; and

• State of Texas: Texas Parks and Wildlife Department, Texas General Land Office, and Texas Commission on Environmental Quality.

The DWH Trustees reached and finalized a settlement of their natural resource damage claims with BP in an April 4, 2016, Consent Decree approved by the United States District Court for the Eastern District of Louisiana. Pursuant to that Consent Decree, restoration projects in the Alabama Restoration Area are now selected and implemented by the Alabama TIG. The Alabama TIG is composed of the following Trustees:

• National Oceanic and Atmospheric Administration;

• U.S. Department of the Interior;

• U.S. Environmental Protection Agency;

• U.S. Department of Agriculture;

• State of Alabama Department of Conservation and Natural Resources; and

• Geological Survey of Alabama.

Background

In the Alabama TIG RP II/EA, the Alabama TIG selected 20 projects for implementation, allocating funds from several restoration types including the WCNH restoration type. One of the projects selected for implementation in the funds, was the Weeks Bay Land Acquisition (Harrod Tract) project. For the reasons identified in the Supplemental RP/EA the Alabama TIG has terminated the Harrod Tract project via TIG Resolution. This Supplemental RP/EA supplements the Alabama TIG RP II/EA, evaluating the Alabama TIG's proposal to use those funds previously allocated to the Harrod Tract project to support a new acquisition project in the same watershed.

Notice of availability of the Draft Supplemental RP/EA was posted to the Alabama TIG website, http://www.gulfspillrestoration.noaa.gov/restoration-areas/alabama on December 6, 2021. The TIG provided the public with 30 days to review and comment on the Draft Supplemental RP/EA. During the public comment period, one comment was received voicing general support of the project and noting the importance of protecting this parcel from future development. This correspondence is included as Appendix A.

Overview of the Alabama TIG Final Supplemental RP/EA

The termination of the Harrod Tract project has resulted in $3,606,900 of previously allocated WCNH restoration funds to become available to the Alabama TIG. Accordingly, the Alabama TIG is proposing to use those funds to support a new acquisition project in the Weeks Bay watershed, where the Harrod Tract acquisition would have occurred. Specifically, in this Supplemental RP/EA, the Alabama TIG evaluates the use of WCNH funds to acquire a tract known as the Lloyd Tract, which is located along two tributaries of the Fish River, slightly upstream from the Harrod Tract. The property is bordered by two tidal creeks, Waterhole Branch and Green Branch, and their confluence occurs at the southeastern boundary of the property. The Lloyd Tract has a willing seller, is at risk of development, contains farmland that can be restored to longleaf pine habitat, would become part of the Weeks Bay National Estuarine Research Reserve, and would provide restoration benefits to wetlands, coastal, and nearshore habitats. A no action alternative is also evaluated in the Supplemental RP/EA.

Administrative Record

The documents comprising the Administrative Record for the Final Supplemental RP/EA can be viewed electronically at http://www.doi.gov/deepwaterhorizon/adminrecord.

Authority

The authority of this action is the Oil Pollution Act of 1990 (33 U.S.C. 2701 et seq.) and its implementing OPA NRDA regulations found at 15 CFR part 990 and the National Environmental Policy Act of 1969 (42 U.S.C. 4321 et seq.).

Dated: February 17, 2022.
Carrie Diane Robinson,
Director, Office of Habitat Conservation, National Marine Fisheries Service.

[FR Doc. 2022-03890 Filed 2-23-22; 8:45 am]

BILLING CODE 3510-22-P